NUCLEAR REGULATORY COMMISSION

[Docket Nos. 52-018-COL, 52-019-COL; ASLBP No. 08-865-03-COL-BD01]

Duke Energy Carolinas, LLC; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board (Board) is being established to preside over the following proceeding;

Duke Energy Carolinas, LLC

(William States Lee III Nuclear Station, Units 1 and 2)

This proceeding concerns a Petition to Intervene and Request for Hearing submitted by the Blue Ridge Environmental Defense League, and a request to participate in any hearing by the South Carolina Office of Regulatory Staff, which were submitted in response to an April 28, 2008 Notice of Hearing and Opportunity To Petition for Leave To Intervene on a Combined License for William States Lee III Units 1 and 2 (73 FR 22,978). The Petition to Intervene and Request for Hearing challenges the application filed by Duke Energy Carolinas, LLC, pursuant to Subpart C of 10 CFR Part 52 for a combined license for William States Lee III Nuclear Station, Units 1 and 2, which would be located in Cherokee County, South Carolina.

The Board is comprised of the following administrative judges:

Paul S. Ryerson, Chair, Atomic Safety and Licensing Board Panel, U.S. Nuclear Regulatory Commission, Washington, DC 20555-0001;

Nicholas G. Trikouros, Atomic Safety and Licensing Board Panel, U.S. Nuclear Regulatory Commission, Washington, DC 20555-0001;

Dr. William H. Murphy, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 8th day of July 2008.
Anthony J. Baratta,
Associate Chief Administrative Judge—Technical, Atomic Safety and Licensing Board Panel.

[FR Doc. E8-16008 Filed 7-11-08; 8:45 am]

BILLING CODE 7590-01-P